DEPARTMENT OF ENERGY

Federal Energy Regulatory Commission

[Docket No. CP06-70-000 and CP06-79-000]

Colorado Interstate Gas Company Public Service Company of Colorado; Notice of Applications

March 7, 2006.

Take notice that on February 27, 2006, Colorado Interstate Gas Company (CIG), P.O. Box 1087, Colorado Springs, Colorado 80944, filed an application in Docket No. CP06-70-000, pursuant to section 7(b) and (c) of the Natural Gas Act (NGA) and part 157 of the Commission's regulations, for authorization to abandon certain delivery laterals and related metering facilities located in Morgan County, Colorado, and for authorization to retain certain capacity on those facilities under a lease. CIG intends to abandon the subject facilities by sale to Public Service Company of Colorado. Concurrently, CIG intends to retain a portion of the capacity under lease on the subject facilities until June 30, 2007 when it completes its contractual obligations for firm transportation service to Manchief Power Company, LLC. On March 3, 2006, Public Service Company of Colorado (PSC), 1225 17th Street, Denver, Colorado also filed an application in Docket No. CP06-79-000, pursuant to section 7(c) of the NGA for a limited jurisdiction certificate authorizing the lease by PSC of subject interstate pipeline capacity back to CIG.

These applications are on file with the Commission and open for public inspection. The filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding CIG's application may be directed to Richard Derryberry Director, Regulatory Affairs, Colorado Interstate Gas Company, P.O. Box 1087, Colorado Springs, Colorado 80944 at (719) 520-3782 or by fax at (719) 667-7534. Questions regarding PSC's filing should be directed to Robert I. White, counsel for PSC, Squire, Sanders & Dempsey, LLP at (202) 626-6285, fax (202) 626-6780, or rwhite@ssd.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's web site under the “e-Filing” link. The Commission strongly encourages electronic filings.

Comment Date: March 28, 2006.

Magalie R. Salas,
Secretary.

[FR Doc. E6-3596 Filed 3-13-06; 8:45 am]

BILLING CODE 6717-01-P